DEPARTMENT OF COMMERCE

Census Bureau

[Docket No. 250725-0129; RTID 0607-XC083]

2030 Census Redistricting Data Program, Commencement of Phase 1: The Block Boundary Suggestion Project

AGENCY: Census Bureau, Department of Commerce.

ACTION: Notice of program.

SUMMARY: This notice announces the commencement of Phase 1 of the 2030 Census Redistricting Data Program: The Block Boundary Suggestion Project. Phase 1 specifically provides states the opportunity to supply the Census Bureau with their suggestions for the 2030 Census tabulation block inventory. Suggestions are made by designating the desirability of linear features for use as 2030 Census tabulation block boundaries. In addition, states have the opportunity to submit to the Census Bureau suggested legal boundary updates. These actions allow states to construct some of the small area geography they need for legislative redistricting. State participation in Phase 1 of the 2030 Census Redistricting Data Program is voluntary.

DATES: Comments on this notice must be received by August 29, 2025.

ADDRESSES: Comments may be submitted by either of the following methods:

Electronic submission: Submit electronic public comments via the Federal eRulemaking Portal.

1. Go to www.regulations.gov and enter Docket Number USBC-2025-0006 in the search field.

2. Click the “Comment Now!” icon and complete the required fields.

3. Enter or attach your comments.

By email: Comments in electronic form may also be sent to rdo@census.gov.

All comments responding to this document will be a matter of public record. Relevant comments will generally be available on the Federal eRulemaking Portal at: https://www.Regulations.gov.

The Census Bureau will not accept comments accompanied by a request that part or all the material be treated confidentially for any reason. Therefore, do not submit confidential business information or otherwise sensitive, protected, or personal information, such as account numbers, Social Security numbers, or names of other individuals.

FOR FURTHER INFORMATION CONTACT: James Whitehorne, Chief of the Census Redistricting and Voting Rights Data Office, U.S. Census Bureau, ADDC/RVDO, Washington, DC 20233, telephone (301) 763-4039.

SUPPLEMENTARY INFORMATION: Under the provisions of Public Law 94-171 (13 U.S.C. 141(c)), the Director of the Census Bureau is required to provide the “officers or public bodies with initial responsibility for legislative apportionment or districting of each state . . .” with the opportunity to specify small geographic areas (e.g., tabulation blocks, voting districts) for which they wish to receive decennial census population totals for the purpose of reapportionment and redistricting.

By April 1 of the year following the census, the Secretary of Commerce is required to furnish the state officials or their designees with population counts for standard geographies such as counties, cities, census blocks, and for state-specified congressional districts, legislative districts, and voting districts.

In accordance with the provisions of 13 U.S.C. 141(c), and on behalf of the Secretary of Commerce, the Director of the Census Bureau announces the commencement of Phase 1 of the 2030 Census Redistricting Data Program. The purpose of this notice is to provide further information on the commencement of Phase 1 of the 2030 Census Redistricting Data Program: The Block Boundary Suggestion Project. Future Federal Register notices will address other phases of the 2030 Census Redistricting Data Program.

The 2030 Census Redistricting Data Program was initially announced on July 9, 2024 (89 FR 56287). The Census Bureau received two sets of comments regarding the 2030 Census Redistricting Data Program. One set of comments was determined to be out of scope, and the second set of comments discussed program operations, timing, and past successful activities. Within this set of comments, the first, to send the solicitation for a state non-partisan liaison letter to the state's legislative leadership, was implemented. The second comment, to move the timing of the program's operations from Spring to Fall, was determined to not be feasible for the overall success of the program. This determination was made based on feedback received during the planning phase of the 2030 Census Redistricting Data Program. Finally, the third comment, to solicit statewide geography layers from the commentor's state GIS coordinator to update Census Bureau geography, was out of scope for the 2030 Census Redistricting Data Program. This recommendation was forwarded to the relevant area of the Census Bureau for consideration.

State participation in the 2030 Census Redistricting Data Program under 13 U.S.C. 141 is voluntary. The 2030 Census Redistricting Data Program is partitioned into several phases, as it was in previous decades. Beginning in late 2025, the program will engage each state regarding their voluntary participation in Phase 1, through their newly designated 2030 Census Redistricting Data Program non-partisan liaison(s). The Census Bureau will make available data from its national geospatial database (MAF/TIGER System), the Geographic Update Partnership Software (GUPS), and the procedures necessary for each state to begin work on Phase 1. States are not required to use the GUPS; however, they are required to provide their Phase 1 submission to the Census Bureau electronically in Census Bureau specified formats. During the submission period, the Census Bureau will provide training in the use of the GUPS and assist the states in understanding the procedures necessary for processing files for their submission. The states will have the opportunity to verify the inclusion of their suggested tabulation block boundary features in the Census Bureau's MAF/TIGER System as part of Phase 1.

The Census Bureau will continue to communicate with each state to ensure that they are well informed about the benefits of working with the Census Bureau towards a successful 2030 Census. In addition, the Redistricting and Voting Rights Data Office will continue to work with each state to ensure they are prepared to participate in all phases of the 2030 Census Redistricting Data Program. Every state, regardless of their participation in Phase 1, will receive the official redistricting data in Phase 3 of the 2030 Census Redistricting Data Program as required by Public Law 94-171.

Ron Jarmin, Acting Director, Census Bureau, approved the publication of this notice in the Federal Register.

Dated: July 25, 2025.
Shannon Wink,
Program Analyst, Policy Coordination Office, U.S. Census Bureau.

[FR Doc. 2025-14408 Filed 7-29-25; 8:45 am]

BILLING CODE 3510-07-P